DEPARTMENT OF THE INTERIOR

Bureau of Land Management

[LLWY920—L51010000—LVRWK11K1410]

Notice of Intent to Prepare an Environmental Impact Statement for the Quaking Aspen Wind Energy Project, Wyoming, and Notice of Segregation of Public Lands

AGENCY: Bureau of Land Management, Interior.

ACTION: Notice of intent.

SUMMARY: In accordance with the National Environmental Policy Act of 1969, as amended (NEPA), and the Federal Land Policy and Management Act of 1976, as amended, the Bureau of Land Management (BLM) Rock Springs Field Office, Rock Springs, Wyoming, intends to prepare an Environmental Impact Statement (EIS) for the Quaking Aspen Wind Energy Project (Quaking Aspen).

By this notice, BLM is: (1) Announcing the beginning of the scoping process to solicit public comments and identify potential issues related to the Quaking Aspen EIS; and (2) Segregating 3,698.35 acres of BLM-administered lands located within the Quaking Aspen right-of-way (ROW) application area from appropriation under the public land laws, including the 1872 Mining Law, but not the Mineral Leasing or Mineral Material Acts, for a period of 2 years from the date of publication of this notice.

DATES: This notice initiates: (1) The public scoping process for the EIS; and (2) The 2-year segregation period for the public lands within the Quaking Aspen ROW application area, effective as of November 8, 2011. The segregation will terminate as described below (see SUPPLEMENTARY INFORMATION” section). Comments on potential issues may be submitted in writing until December 8, 2011. The date(s) and location(s) of any scoping meetings will be announced at least 15 days in advance through local media outlets and through the BLM Rock Springs Field Office's Web site at: http://www.blm.gov/wy/en/info/NEPA/documents/rsfo/quaking-aspen.html. In order to be considered in the Draft EIS, all comments must be received prior to the close of the scoping period or 15 days after the last public meeting, whichever is later. We will provide additional opportunities for public participation upon publication of the Draft EIS.

ADDRESSES: You may submit comments on potential issues to be addressed in the Quaking Aspen EIS by any of the following methods:

• Email: Quaking_Aspen_Wind_Energy_WY@blm.gov; or

• Mail: 280 Highway 191 N., Rock Springs, WY 82901.

Documents pertinent to this proposal may be examined at the BLM Rock Springs Field Office.

FOR FURTHER INFORMATION CONTACT: Lorraine Keith, Project Manager, telephone: (307) 352-0256; address: BLM, 280 Highway 191 N., Rock Springs, WY 82901; email: BLM_WY_QuakingAspen_Wind@blm.gov. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: This document provides notice that the BLM Rock Springs Field Office, Rock Springs, Wyoming, intends to prepare an EIS for the Quaking Aspen project; announces the beginning of the scoping process for that EIS; and seeks public input on potential issues to be addressed in the EIS. The project area is located in Sweetwater County, Wyoming, and encompasses approximately 3,698 acres of public, 3,865 acres of private, and 630 acres of state lands. The project will include up to 100 1.5 megawatt (MW) to 3 MW wind turbine generators with a nameplate capacity of 250 MW of power, and a 230 kV transmission line. The purpose of the public scoping process is to determine relevant potential issues that will influence the scope of the environmental analysis, including alternatives, and to guide the NEPA process. Preliminary potential issues have been identified by BLM personnel; Federal, State, and local agencies; and other stakeholders. The potential issues include: Wind energy development; management of site-type ROWs for renewable energy; visual resource management; fluid minerals, coal and other minerals; livestock grazing; wild horses; wildlife, particularly birds, bats, and pronghorn antelope; cultural and historical resources; and recreation. The BLM will ensure compliance with all applicable local, State, tribal, and Federal air quality laws, statutes, regulations, standards, and implementation plans, and will include an analysis of climate change.

You may submit comments with potential issues to be addressed in the EIS in writing to the BLM at any public scoping meeting, or you may submit them to the BLM using one of the methods listed in the ADDRESSES section above. To be most helpful, you should submit comments before the close of the comment period or within 15 days after the last public meeting, whichever is later. Before including your address, phone number, email address, or other personal identifying information in your comment, you should be aware that your entire comment, including your personal identifying information, may be made publicly available at any time. While you may ask us in your comment to withhold your personal identifying information from public review, we cannot guarantee that we will be able to do so. The minutes and list of attendees for each scoping meeting will be available to the public and open for 30 days after the meeting to any participant who wishes to clarify the views he or she expressed. The BLM will evaluate potential issues to be addressed in the EIS, and will place them into one of three categories:

1. Potential issues to be resolved in the EIS;

2. Potential issues to be resolved through policy or administrative action; or

3. Potential issues beyond the scope of this EIS.

The BLM will provide an explanation in the Draft EIS as to why an issue was placed in category two or three. The public is also encouraged to help identify any management questions and concerns that should be addressed in the EIS. The BLM will work collaboratively with interested parties to identify the management decisions that are best suited to local, regional, and national needs and concerns.

The BLM will use an interdisciplinary approach to develop the EIS in order to consider the variety of resource issues and concerns identified. Specialists with expertise in the following disciplines will be involved in the NEPA process: rangeland management, air quality, minerals and geology, botany, outdoor recreation, archaeology, paleontology, wildlife and fisheries, lands and realty, hydrology, soils, sociology and economics, and wildland fire.

The BLM will use and coordinate the NEPA commenting process to satisfy the public involvement process pursuant to Section 106 of the National Historic Preservation Act (NHPA) (16 U.S.C. 470f) as provided for in 36 CFR 800.2(d)(3). Native American tribal consultations will be conducted in accordance with policy, and tribal concerns will be given due consideration, including impacts on Indian trust assets. Federal, State, Tribal, and local agencies, along with other stakeholders that may be interested in or affected by the BLM's decision on this project, are invited to participate in the scoping process and, if eligible, may request or be requested by the BLM to participate as a cooperating agency.

In connection with the Quaking Aspen ROW application, public lands within the Quaking Aspen project area are segregated from appropriation under the public land laws, including the Mining law, under the authority contained in 43 CFR 2091.3- 1(e) and 43 CFR 2804.25(e) for a period of 2 years, in order to process the ROW application filed on the described lands. This 2-year segregation period will commence upon publication of this Federal Register notice. It has been determined that this segregation is necessary for the orderly administration of the public lands. The temporary segregation period will terminate and the lands will automatically re-open to appropriation under the public land laws, including the mining laws, if one of the following events occurs: (1) Upon the BLM's issuance of a decision regarding whether to issue a ROW authorization for the wind energy generation proposal; (2) upon publication in the Federal Register of a notice of termination of the segregation; or (3) without further administrative action at the end of the segregation period provided for in the Federal Register notice initiating the segregation, whichever occurs first. Any segregation made under this authority would be effective only for a period of up to 2 years.

In accordance with 43 CFR 2091.3- 1(e) and 2804.25(e), the following described public lands within the Quaking Aspen project area are hereby segregated for a period of up to 2 years, subject to valid existing rights, from all forms of appropriation under the public land laws, including location and entry under the United States mining laws, but not from leasing under the mineral leasing laws or disposal under the mineral material laws:

Sixth Principal Meridian, Wyoming

T. 16 N., R. 103 W.,

Sec. 6, lots 8 through 11, inclusive, E½SW¼, and SE¼;

Sec. 8; and

Sec. 18, lots 5 through 7, inclusive, NE¼, E½NW¼, NE¼SW¼, and N½SE¼.

T. 17 N., R. 103 W.,

Sec. 28, N½SW¼ and S½S½;

Sec. 30, lots 1 through 4, inclusive, NE¼NE¼, W½NE¼, E½NW¼, and SE¼SW¼, S½SE¼; and

Sec. 32.

T. 16 N., R. 104 W.,

Sec. 2, lots 5 through 7, inclusive, N½SE¼, and SE¼SE¼; and

Sec. 12, W½NE¼, E½NW¼, NW¼NW¼, NE¼SW¼, and NW¼SE¼.

T. 17 N., R. 104 W.,

Sec. 26, SE¼NE¼, S½S½, and NE¼SE¼.

The described Federal lands, aggregate to approximately 3,698.35 acres, according to the official plats of the surveys of the said lands, on file with the BLM.

Authority: 40 CFR 1501.7 and 43 CFR 1610.2

Mary E. Trautner,
Acting State Director, Wyoming.

[FR Doc. 2011-28852 Filed 11-7-11; 8:45 am]

BILLING CODE 4310-22-P